DEPARTMENT OF AGRICULTURE

Research, Education, and Economics; Research Program on Health and Nutrition Effects of Popular Weight-Loss Diets: Notice of Public Meeting

AGENCY: Department of Agriculture, REE.

ACTION: Notice.

SUMMARY: The Department of Agriculture (USDA) (a) provides notice of a public meeting on the Research Program on Health and Nutrition Effects of Popular Weight-loss Diets (Program) (b) solicits written comments on the Program, and (c) solicits oral comments on the Program. The meeting will be held at the Jefferson Auditorium of the South Agriculture Building, 1400 Independence Avenue, SW, Washington, DC, near the Smithsonian Metro Station. No registration is required to attend the public meeting, but pre-registration is required to provide oral comments at the public meeting. There is no fee to attend or to provide oral comments at the public meeting.

DATES: (a) Written comments can be submitted in hard copy by mail or by fax and must be received by the Agency on or before January 15, 2001. (b) The public meeting to solicit oral comments will be held on January 11, 2001, from 1 p.m. to 5 p.m. E.S.T.

For further information contact: Shanthy A. Bowman, Ph.D., USDA, Agricultural Research Service, 10300 Baltimore Boulevard, Building 005, BARC-West, Beltsville, MD 20705-2350, (301) 504-0619.

SUPPLEMENTARY INFORMATION:

General Information

A. Agenda

The agenda includes, (1) Reporting of Phase I of the USDA research, (2) Prototype of research protocols for Phase II, and (3) Oral testimony.

B. How and to Whom Do I Submit Written Comments?

You may submit written comments in hard copy by January 15, 2001, 5:00 p.m. E.S.T, to Shanthy A. Bowman, Ph.D., USDA, Agricultural Research Service, BHNRC/CNRG, 10300 Baltimore Boulevard, Building 005, Room 125, BARC-West, Beltsville, MD, 20705-2350, (301) 504-0619 (phone), 301-504-3225 (fax).

C. How Do I Register To Present Oral Testimony?

Registration is required to provide oral input at the public meeting on January 11, 2001. Requests to provide oral input at the meeting should be submitted by 5:00 p.m. E.S.T., January 9, 2001, to Shanthy A. Bowman, Ph.D., USDA, Agricultural Research Service, BHNRC/CNRG, 10300 Baltimore Boulevard, Building 005, Room 125, BARC-West, Beltsville, MD, 20705-2350, (301) 504-0619 (phone), 301-504-3225 (fax). Name of the presenter, organization affiliation (if applicable), source of funding (if applicable), and contact phone number are required for registration. There is no fee to attend the meeting and to provide oral testimony. One person per organization will be selected on first come basis. Presentations should be limited to three (3) minutes or less. Registration will also be accepted at the meeting, if time slots are available.

Dated: November 28, 2000.
Eileen T. Kennedy,
Deputy Under Secretary, Research, Education, and Economics,, Department of Agriculture.

[FR Doc. 00-30896 Filed 12-8-00; 8:45 am]

BILLING CODE 3410-03-P